DEPARTMENT OF TRANSPORTATION

Federal Aviation Administration

14 CFR Part 39

[Docket No. FAA-2020-0845; Product Identifier 2020-NM-102-AD; Amendment 39-21514; AD 2021-09-01]

RIN 2120-AA64

Airworthiness Directives; Airbus SAS Airplanes

AGENCY: Federal Aviation Administration (FAA), Department of Transportation (DOT).

ACTION: Final rule.

SUMMARY: The FAA is adopting a new airworthiness directive (AD) for certain Airbus SAS Model A320-271N, A321-211, and A321-271N airplanes. This AD was prompted by reports of missing overhead stowage compartment (OHSC) X-fixation brackets or brackets that were incorrectly installed during assembly. This AD requires a special detailed inspection of the OHSC X-fixation brackets for missing or incorrectly installed brackets, and installation or replacement the OHSC X-fixation brackets if necessary; or modification of each OHSC; as specified in a European Union Aviation Safety Agency (EASA) AD, which will be incorporated by reference. The FAA is issuing this AD to address the unsafe condition on these products.

DATES: This AD is effective June 1, 2021.

The Director of the Federal Register approved the incorporation by reference of certain publications listed in this AD as of June 1, 2021.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0845.

Examining the AD Docket

You may examine the AD docket on the internet at https://www.regulations.gov by searching for and locating Docket No. FAA-2020-0845; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Sanjay Ralhan, Aerospace Engineer, Large Aircraft Section, International Validation Branch, FAA, 2200 South 216th St., Des Moines, WA 98198; telephone and fax 206-231-3223; email Sanjay.Ralhan@faa.gov.

SUPPLEMENTARY INFORMATION:

Background

The EASA, which is the Technical Agent for the Member States of the European Union, has issued EASA AD 2020-0122, dated May 29, 2020 (EASA AD 2020-0122) (also referred to as the Mandatory Continuing Airworthiness Information, or the MCAI), to correct an unsafe condition for certain Airbus SAS Model A320-271N, A321-211, and A321-271N airplanes.

The FAA issued a notice of proposed rulemaking (NPRM) to amend 14 CFR part 39 by adding an AD that would apply to certain Airbus SAS Model A320-271N, A321-211, and A321-271N airplanes. The NPRM published in the Federal Register on September 17, 2020 (85 FR 58014). The NPRM was prompted by reports of missing OHSC X-fixation brackets or brackets that were incorrectly installed during assembly. The NPRM proposed to require a special detailed inspection of the OHSC X-fixation brackets for missing or incorrectly installed brackets, and installation or replacement if necessary; or modification of each OHSC, as specified in an EASA AD.

The FAA is issuing this AD to address this condition, which could lead to OHSC failure under certain loading conditions, and possibly result in injury to occupants and impede egress during an emergency evacuation. See the MCAI for additional background information.

Comments

The FAA gave the public the opportunity to participate in developing this final rule. The following presents the comments received on the NPRM and the FAA's response to each comment.

Request To Use a Borescope for the Inspection Requirement

Delta Air Lines (DAL) requested that the FAA allow the use of a borescope as an alternative device to the endoscope for the inspection of the OHSC X-fixation brackets as specified in paragraph (1) of EASA AD 2020-0122. DAL stated that Airbus has provided its concurrence in Airbus Technical Request 80838467/006, dated October 15, 2020.

The FAA agrees that use of a borescope to do this inspection will provide an adequate level of safety. The FAA has added paragraph (h)(3) to this AD, which allows for the use of a borescope for the inspection of the OHSC X-fixation brackets required in this AD.

Request To Disregard the Description of the Bin Assembly in the Referenced Service Information

DAL requested that the FAA add an exception to paragraph (h) of the proposed AD to disregard the description of the bin assembly. DAL commented that where paragraph 3.C.1(b) through 3.C.1(ae) of the referenced modification service information specified in paragraph (3) of EASA AD 2020-0122 states to “replace bin assembly 1F FL EE” (and other bin assemblies), the bin assembly description is information only and does not point to a location on the airplane. DAL commented that Airbus has provided its concurrence in Airbus Technical Request 80838467/006, dated October 15, 2020.

The FAA agrees that the bin assembly identifier, such as “1F FL EE,” is related to the bin assembly description in the referenced modification service information specified in EASA AD 2020-0122. The bin assembly identifiers are provided for information only. The FAA does not agree with removing these references for the bin assemblies because they describe the part that correlates with the part number. Further, the FAA has verified with Airbus that Airbus tech request 80838467/006, dated October 15, 2020, does not recommend removing the part description. However, the FAA has clarified use of the bin assembly identifiers in paragraph (h)(4) of this AD.

Request for a One-Time Identification of the OHSC

DAL requested that the FAA clarify that the OHSC housing must be reidentified only one time although the service information referenced in paragraph (3) of EASA AD 2021-0122 specifies to reidentify the OHSC housing at each bin assembly replacement step. DAL stated that Airbus confirmed in Airbus Technical Request 80838467/006, dated October 15, 2020, that each OHSC housing has more than one bin assembly, so the reidentification step is needed only one time for the OHSC housing, not when each bin assembly is replaced.

The FAA agrees with the commenter. The complete OHSC module, which mainly consists of one housing, one or more bins, the light cover, and one or more air outlets, has one part number. Only one identification label is needed for the whole module, and the bins have their own identification labels with their own part numbers. The FAA has revised this AD to add paragraph (h)(5) of this AD to clarify that the OHSC module is a one-time reidentification no matter how many bins have been modified.

Request To Disregard a Part Number Not Installed on the Airplane

DAL requested that the FAA add an exception to paragraph (h) of the proposed AD explaining that the part number of the COMPARTMENT ASSY may be disregarded if it is not installed on the airplane, as long as the OHSC X-fixation brackets are replaced as specified in paragraph (3) of EASA AD 2020-0122. DAL stated that the part numbers of the COMPARTMENT ASSY can be mismatched due to differences in the airplane applicability; therefore, mismatched part numbers in this step occur when the COMPARTMENT ASSY in the airplane are removed. DAL stated that Airbus has provided its concurrence in Airbus Technical Request 80838467/006, dated October 15, 2020.

The FAA disagrees with the commenter's request. An AD may not require actions on a part or component that is not installed on the airplane. Any COMPARTMENT ASSY installed after the effective date of this AD must be in compliance with the requirements of this AD. The COMPARTMENT ASSY is reidentified using the referenced modification service information specified in EASA AD 2020-0122. When the COMPARTMENT ASSY is reidentified, the referenced modification service information shows the list of the old and new part numbers to address the re-identified parts. The FAA has not revised this AD in this regard.

Request To Include Certain Equivalencies for Certain Tasks

DAL requested that the proposed AD include certain equivalencies for the Ref. Tasks identified in the referenced inspection service information specified in EASA AD 2020-0122. DAL stated that the Ref. Task identified in the referenced inspection service information specified in EASA AD 2020-0122 specifies that the actions be accomplished “in accordance with” a specific Ref. Task. DAL stated that Airbus has provided its concurrence in Airbus Technical Request 80838467/006, dated October 15, 2020.

The FAA agrees to revise this AD to include certain equivalencies for the Ref. Tasks identified in step 3.C.1(c) of the referenced inspection service information specified in EASA AD 2020-0122. The FAA has included the Ref. Task equivalencies in paragraphs (h)(6)(i) through (xvi) of this AD.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

EASA AD 2020-0122 specifies procedures for a special detailed inspection of the OHSC X-fixation brackets for missing or incorrectly installed brackets, and corrective actions (installation or replacement OHSC X-fixation brackets) if necessary; or modification of each OHSC by installing new X-fixation brackets and reidentifying the OHSC housing. This material is reasonably available because the interested parties have access to it through their normal course of business or by the means identified in the ADDRESSES section.

Costs of Compliance

The FAA estimates that this AD affects 31 airplanes of U.S. registry. The FAA estimates the following costs to comply with this AD:

Estimated Costs for Required Actions
Labor cost | Parts cost | Cost per product | Cost on U.S. operators
Up to 29 work-hours × $85 per hour = Up to $2,465 | $0 | Up to $2,465 | Up to $76,415.

Estimated Costs for Optional Actions
Labor cost | Parts cost | Cost per product
Up to 36 work-hours × $85 per hour = Up to $3,060 | Up to $539,060 | Up to $542,120.

The FAA estimates the following costs to do any necessary on-condition action that would be required based on the results of any required actions. The FAA has no way of determining the number of aircraft that might need this on-condition action:

Estimated Costs of On-Condition Actions
Labor cost | Parts cost | Cost per product
Up to 29 work-hours × $85 per hour = Up to $2,465 | * $ | * $
* The FAA has received no definitive data that would enable us to provide parts cost estimates for the on-condition action specified in this AD.

According to the manufacturer, some or all of the costs of this AD may be covered under warranty, thereby reducing the cost impact on affected operators. The FAA does not control warranty coverage for affected operators. As a result, the FAA has included all known costs in our cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-09-01 Airbus SAS: Amendment 39-21514; Docket No. FAA-2020-0845; Product Identifier 2020-NM-102-AD.

(a) Effective Date

This airworthiness directive (AD) is effective June 1, 2021.

(b) Affected ADs

None.

(c) Applicability

This AD applies to Airbus SAS Model A320-271N, A321-211 and A321-271N airplanes, certificated in any category, as identified in European Union Aviation Safety Agency (EASA) AD 2020-0122, dated May 29, 2020 (EASA AD 2020-0122).

(d) Subject

Air Transport Association (ATA) of America Code 25, Equipment/furnishings.

(e) Reason

This AD was prompted by reports of missing overhead stowage compartment (OHSC) X-fixation brackets or brackets that were incorrectly installed during assembly. The FAA issuing this AD to address this condition, which could lead to OHSC failure under certain loading conditions, and possibly result in injury to occupants and impede egress during an emergency evacuation.

(f) Compliance

Comply with this AD within the compliance times specified, unless already done.

(g) Requirements

Except as specified in paragraph (h) of this AD: Comply with all required actions and compliance times specified in, and in accordance with, EASA AD 2020-0122.

(h) Exceptions and Clarifications to EASA AD 2020-0122

(1) Where EASA AD 2020-0122 refers to its effective date, this AD requires using the effective date of this AD.

(2) The “Remarks” section of EASA AD 2020-0122 does not apply to this AD.

(3) For the inspection of the OHSC X-fixation brackets specified in paragraph (1) of EASA AD 2020-0122, this AD allows the use of the borescope as an alternative method of compliance for the inspection.

(4) Paragraphs 3.C.1(b) through 3.C.1(ae) of the referenced modification service information specified in EASA AD 2020-0122 specifies to “replace bin assembly [**],” where “**” refers to a bin assembly identifier. These identifiers are for information only.

(5) Where paragraphs 3.C.1(b) through 3.C.1(ae) of the referenced modification service information specified in EASA AD 2020-0122 references reidentification of the OHSC at every COMPARTMENT ASSY installation, this AD requires a one-time reidentification for the OHSC module no matter how many bins have been modified.

(6) Accomplishment of either of the pair of Ref. Tasks identified in each of the paragraphs in (h)(6)(i) through (xvi) of this AD is acceptable for compliance with the applicable action of the Ref. Tasks identified in step 3.C.1(c) of the referenced inspection service information specified in EASA AD 2020-0122.

(i) Ref. Task A320-A-25-XX-1BFN-01ZZZ-600Z-A corresponds to Ref. Task A320-A-25-XX-1BFN-01001-600A-A.

(ii) Ref. Task A320-A-25-XX-1BFN-02ZZZ-600Z-A corresponds to Ref. Task A320-A-25-XX-1BFN-02001-600A-A.

(iii) Ref. Task A320-A-25-XX-1BFN-03ZZZ-600Z-A corresponds to Ref. Task A320-A-25-XX-1BFN-03001-600A-A.

(iv) Ref. Task A320-A-25-XX-1BFN-04ZZZ-600Z-A corresponds to Ref. Task A320-A-25-XX-1BFN-04001-600A-A.

(v) Ref. Task A320-A-25-XX-1BFN-05ZZZ-600Z-A corresponds to Ref. Task A320-A-25-XX-1BFN-05001-600A-A.

(vi) Ref. Task A320-A-25-XX-1BFN-06ZZZ-600Z-A correspond to Ref. Task A320-A-25-XX-1BFN-06001-600A-A.

(vii) Ref. Task A320-A-25-XX-1BFN-07ZZZ-600Z-A corresponds to Ref. Task A320-A-25-XX-1BFN-07001-600A-A.

(viii) Ref. Task A320-A-25-XX-1BFN-08ZZZ-600Z-A corresponds to Ref. Task A320-A-25-XX-1BFN-08001-600A-A.

(ix) Ref. Task A320-A-25-XX-1BFN-09ZZZ-600Z-A corresponds to Ref. Task A320-A-25-XX-1BFN-09001-600A-A.

(x) Ref. Task A320-A-25-XX-1BFN-10ZZZ-600Z-A corresponds to Ref. Task A320-A-25-XX-1BFN-10001-600A-A.

(xi) Ref. Task A320-A-25-XX-1BFN-11ZZZ-600Z-A corresponds to Ref. Task A320-A-25-XX-1BFN-11001-600A-A.

(xii) Ref. Task A320-A-25-XX-1BFN-12ZZZ-600Z-A corresponds to Ref. Task A320-A-25-XX-1BFN-12001-600A-A.

(xiii) Ref. Task A320-A-25-XX-1BFN-13ZZZ-600Z-A corresponds to Ref. Task A320-A-25-XX-1BFN-13001-600A-A.

(xiv) Ref. Task A320-A-25-XX-1BFN-14ZZZ-600Z-A correspond to Ref. Task A320-A-25-XX-1BFN-14001-600A-A.

(xv) Ref. Task A320-A-25-XX-1BFN-15ZZZ-600Z-A corresponds to Ref. Task A320-A-25-XX-1BFN-15001-600A-A.

(xvi) Ref. Task A320-A-25-XX-1BFN-16ZZZ-600Z-A corresponds to Ref. Task A320-A-25-XX-1BFN-16001-600A-A.

(i) No Reporting Requirement

Although the service information referenced in EASA AD 2020-0122 specifies to submit certain information to the manufacturer, this AD does not include that requirement.

(j) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Related Information

For more information about this AD, contact Sanjay Ralhan, Aerospace Engineer, Large Aircraft Section, International Validation Branch, FAA, 2200 South 216th St., Des Moines, WA 98198; telephone and fax 206-231-3223; email Sanjay.Ralhan@faa.gov.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2020-0122, dated May 29, 2020.

(ii) [Reserved]

(3) For EASA AD 2020-0122, contact EASA, Konrad-Adenauer-Ufer 3, 50668 Cologne, Germany; telephone +49 221 8999 000; email ADs@easa.europa.eu; Internet www.easa.europa.eu. You may find this EASA AD on the EASA website at https://ad.easa.europa.eu.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0845.

(5) You may view this material that is incorporated by reference at the National Archives and Records Administration (NARA). For information on the availability of this material at NARA, email fedreg.legal@nara.gov, or go to: https://www.archives.gov/federal-register/cfr/ibr-locations.html.

Issued on April 12, 2021.
Lance T. Gant,
Director, Compliance & Airworthiness Division, Aircraft Certification Service.

[FR Doc. 2021-08577 Filed 4-23-21; 8:45 am]

BILLING CODE 4910-13-P